DEPARTMENT OF THE INTERIOR

Bureau of Land Management

[LLWY921000, L712200000.EU0000, LVTFKX899040, 18X, WYW186936]

Notice of Realty Action: Non-Competitive (Direct) Sale of Public Land in Big Horn County, WY (Rageth, 60.96 Acres)

AGENCY: Bureau of Land Management, Interior.

ACTION: Notice of realty action.

SUMMARY: The Bureau of Land Management (BLM) proposes a non-competitive (direct) sale of 60.96 acres of public lands in Big Horn County, Wyoming, to Brent and Sherri Rageth for the purpose of resolving an inadvertent unauthorized use. The sale will be subject to applicable provisions of the Federal Land Policy Management Act of 1976, as amended (FLPMA), and BLM regulations. The appraised Fair Market Value (FMV) for the sale parcels is $21,500.

DATES: Submit written comments regarding the sale parcel and associated Environmental Assessment until December 16, 2019.

ADDRESSES: Mail written comments concerning this direct sale to Field Manager, BLM, Cody Field Office, 1002 Blackburn Street, Cody, Wyoming 82414.

FOR FURTHER INFORMATION CONTACT: Cara Blank, Realty Specialist, BLM, Cody Field Office, at the above address or by telephone 307-578-5912. Persons who use a telecommunications device for the deaf (TDD) may call the Federal Relay Service (FRS) at 1-800-877-8339. The FRS is available 24 hours a day, 7 days a week, to leave a message or question with the above individual. You will receive a reply during normal business hours.

SUPPLEMENTARY INFORMATION: The following public lands have been examined and found suitable for sale in accordance with the criteria in Section 203 of the FLPMA:

Sixth Principal Meridian, Wyoming

T. 56 N., R. 97 W.,

Sec. 20, parcel 1;

Sec. 21, parcels 1 and 2;

Sec. 22, parcel 1.

The areas described aggregate 60.96 acres.

The direct sale is in conformance with the BLM Cody Field Office Approved Resource Management Plan (September 18, 2015), which identifies these parcels of public lands as suitable for disposal on page 105 and management action 6011. FLPMA Section 203 allows for the disposal of public lands if they meet the following disposal criteria: (1), such tract, because of its location or other characteristics, is difficult and uneconomic to manage as part of the public lands and is not suitable for management by another Federal department or agency. The subject parcels meet this criteria because the existing structures and the change in the character of the lands associated with farming operations make the lands difficult to manage as public lands.

A parcel-specific Environmental Assessment (EA) document numbered DOI-BLM-WY-R020-2019-0007-EA was prepared in connection with this sale. A copy of the EA, Finding of No Significant Impact and Decision Record are available online at: https://eplanning.blm.gov/epl-front-office/eplanning/projectSummary.do?methodName=renderDefaultProjectSummary&projectId=118368.

Regulations at 43 CFR 2711.3-3(a) allow the direct sale of public lands (without competition), when a competitive sale is not appropriate and the public interest would best be served by a direct sale. In this case, a competitive sale is not appropriate because the subject lands contain improvements that directly support the adjoining farm property, owned by Brent and Sherri Rageth, rendering the land unusable by the public. The minimal acreage was considered to create a manageable boundary that included the lands surrounding a metal shop and all irrigation improvements. The public's interest would be best served by resolving the inadvertent unauthorized use and receiving payment at FMV for the public lands. Further, in conformance with Secretarial Order 3373, the BLM has determined that sale of this land will not impact public access for outdoor recreation. Upon publication of this Notice in the Federal Register, the public lands described will be segregated from all forms of appropriation under the public land laws, including the mining laws, except for the sale provisions of the FLPMA.

The temporary segregation will terminate upon, (1) issuance of a conveyance document, (2) publication in the Federal Register terminating the segregation, or (3) on November 1, 2021, unless extended by the BLM Wyoming State Director, in accordance with 43 CFR 2711.1-2(d). Upon publication of this Notice in the Federal Register, the BLM is no longer accepting land use applications affecting these public lands, except applications for the amendment of previously filed rights-of-way applications or existing authorizations to increase the term of the grants in accordance with 43 CFR 2807.15 and 43 CFR 2886.15.

The conveyance document, if issued, will contain the following reservations; excepting and reserving to the United States:

1. Rights-of-way thereon for ditches or canals constructed by the authority of the United States, Act of August 30, 1890 (43 U.S.C. 945);

2. All the mineral deposits in the lands so patented pursuant to the Act of October 21, 1976 (43 U.S.C. 1719), including, without limitation, substances subject to disposition under the general mining laws, the general mineral leasing laws, the Materials Act and the Geothermal Steam Act, and to it, its permittees, licensees, lessees, and mining claimants, the right to prospect for, mine and remove the minerals owned by the United States under applicable law an such regulations as the Secretary of the Interior may prescribe. This reservation includes necessary access and exit rights and the right to conduct all necessary and incidental activities including, without limitation, all drilling, underground, open pit or surface mining operations, storage and transportation facilities deemed reasonably necessary.

Unless otherwise provided by separate agreement with the surface owner, mining claimants, permittees, licensees and lessees of the United States shall reclaim disturbed areas to the extent prescribed by regulations issued by the Secretary of the Interior.

All causes of action brought to enforce the rights of the surface owner under the regulations above referred to shall be instituted against mining claimants, permittees, licensees and lessees of the United States; and the United States shall not be liable for the acts or omissions of its mining claimants, permittees, licensees and lessees.

The conveyance document, if issued, will be subject to all valid existing rights.

The BLM will publish this Notice in the Lovell Chronicle newspaper once a week for three consecutive weeks. Only written comments submitted by postal service or overnight mail will be considered as properly filed. Electronic mail, facsimile, or telephone comments will not be considered.

Any adverse comments regarding the sale will be reviewed by the BLM Wyoming State Director or other authorized official of the Department of the Interior, who may sustain, vacate, or modify this realty action in response to such comments. In the absence of any timely filed objections, this realty action will become the final determination of the Department of the Interior.

Before including your address, phone number, email address, or other personal identifying information in your comment, you should be aware that your entire comment—including your personal identifying information—may be made publicly available at any time. While you can ask us in your comment to withhold your personal identifying information from public review, we cannot guarantee that we will be able to do so. Comments, including names and street addresses of respondents, will be available for public review at the BLM Cody Field Office during regular business hours, except holidays.

Authority: 43 CFR 2711.

Duane Spencer,
Acting State Director, Wyoming.

[FR Doc. 2019-23954 Filed 10-31-19; 8:45 am]

BILLING CODE 4310-22-P